DEPARTMENT OF COMMERCE

National Oceanic and Atmospheric Administration

Partnerships in the Provision of Weather, Water, Climate and Related Environmental Information

AGENCY: National Oceanic and Atmospheric Administration, Department of Commerce, Commerce.

ACTION: Notice of availability.

SUMMARY: The National Oceanic and Atmospheric Administration (NOAA) proposes to adopt a policy regarding the information activities of the National Weather Service (NWS) and potentially other NOAA programs. This new proposed policy is intended to strengthen the existing partnership between government, academia and the private sector. This partnership provides the nation with high quality weather, climate and related environmental information.

ADDRESSES: The proposed policy is available electronically at http://www.noaa.gov/fairweather. Requests for hard copies should be sent to Fair Weather, Room 11404, 1325 East-West Highway, Silver Spring, MD 20910-3283.

FOR FURTHER INFORMATION CONTACT: Peter Weiss 301-713-0258, peter.weiss@noaa.gov.

Dated: December 29, 2003.
Nicholas Leivers,
Chief, Executive Affairs.

[FR Doc. 04-43 Filed 1-9-04; 8:45 am]

BILLING CODE 3510-KE-P